DEPARTMENT OF EDUCATION

Notice of Proposed Information Collection Requests

AGENCY: Department of Education.

ACTION: Correction Notice.

SUMMARY: On June 12, 2008, the Department of Education published a comment period notice in the Federal Register (Page 33414, Column 3) for the information collection, “Consolidated State Performance Report (Part I and II).” This notice hereby corrects the Focused Question for Public Comment to read:

Focused Question for Public Comment: EDFacts Data Linkages for Prepopulation of CSPR.

The SY 2006-07 CSPR contained questions that were “Initially Pre-populated from EDFacts.” The “Initial Prepopulation” strategy allowed CSPR coordinators the flexibility to use either the data submitted through EDFacts or an alternative data source to respond to questions on the CSPR.

It is ED's intention and desire to move as many of those questions, which were “Initially prepopulated” in 2006-07 to full utilization of EDFacts Submissions for 2007-08. As a result, CSPR coordinators will only be able to amend responses to those questions on the CSPR by working with their EDFacts coordinator to resubmit a file through EDFacts. The Department plans to move cautiously towards this new strategy by carefully reviewing each state's EDFacts transition agreement to ensure that all states will continue to have the capacity to submit their CSPR to the Department in a timely manner and with complete and accurate information.

The Department is soliciting public comment from the states on the viability of moving any or all of the following questions, which were initially pre-populated in 2006-07 to exclusive pre-population for 2007-08 or 2008-09.

Questions on the 2007-08 CSPR which were “Initially Prepopulated from EDFacts” in 2006-07 are listed below:

Question No. | Descriptor
1.3.1 | Student Achievement in Mathematics.
1.3.2 | Student Achievement in Reading Language Arts.
1.4.3 | Accountability of Districts That Received Title I Funds.
1.4.9.1.2 | Public School Choice—Students.
1.4.9.1.3 | Funds Spent on Public School Choice.
1.4.9.2.2 | Supplemental Educational Services—Students.
1.4.9.2.3 | Funds Spent on Supplemental Educational Services.
1.6.5.1 | Immigrant Students.
1.8.1 | Graduation Rates.
1.9.2.1 | Homeless Children and Youths Served by McKinney-Vento Subgrants.
1.9.2.2 | Subpopulations of Homeless Students Served.
1.9.2.5.1 | Reading Assessment.
1.9.2.5.2 | Mathematics Assessment.
1.10.1 | Category 1 Child Count.
1.10.2 | Category 2 Child Count.
2.3.1.1 | Eligible Migrant Children.
2.3.1.2 | Priority for Services.
2.3.1.3 | Limited English Proficient.
2.3.1.4 | Children with Disabilities (IDEA).
2.3.2.1 | Dropouts.
2.3.2.3.1 | Reading/Language Arts Participation.
2.3.3.1.1 | MEP Students Served During the Regular School Year.
2.3.3.1.2 | Priority for Services—During the Regular School Year.
2.3.3.3 | MEP Participation—Program Year.
2.3.4.1 | Schools and Enrollment.
2.3.4.2 | Schools Where MEP Funds Were Consolidated in Schoolwide Programs.
2.3.6.1.2 | MEP Staff.
2.4.1.2 | Students Served—Subpart 1.
2.4.1.6.1 | Academic Performance in Reading—Subpart 1.
2.4.1.6.2 | Academic Performance in Mathematics—Subpart 1.
2.4.2.6.1 | Academic Performance in Reading—Subpart 2.
2.4.2.6.2 | Academic Performance in Mathematics—Subpart 2.
2.7.2.1 | State Definitions.
2.7.2.2.1 | Out-of-School Suspensions for Violent Incident Without Physical Injury.
2.7.2.2.2 | Out-of-School Expulsions for Violent Incident Without Physical Injury.
2.7.2.3.1 | Out-of-School Suspensions for Violent Incident with Physical Injury.
2.7.2.3.2 | Out-of-School Expulsions for Violent Incident with Physical Injury.
2.7.2.4.1 | Out-of-School Suspensions for Weapons Possession.
2.7.2.4.2 | Out-of-School Expulsions for Weapons Possession.
2.7.2.5.1 | Out-of-School Suspensions for Alcohol-Related Incidents.
2.7.2.5.2 | Out-of-School Expulsions for Alcohol-Related Incidents.
2.7.2.6.1 | Out-of-School Suspensions for Illicit Drug-Related Incidents.
2.7.2.6.2 | Out-of-School Expulsions for Illicit Drug-Related Incidents.

The IC Clearance Official, Regulatory Information Management Services, Office of Management, hereby issues a correction notice as required by the Paperwork Reduction Act of 1995.

Dated: July 10, 2008.
Angela C. Arrington,
IC Clearance Official, Regulatory Information Management Services, Office of Management.

[FR Doc. E8-16160 Filed 7-15-08; 8:45 am]

BILLING CODE 4000-01-P